DEPARTMENT OF THE INTERIOR

Fish and Wildlife Service

50 CFR Part 17

[Docket No. FWS-HQ-ES-2014-0066; 4500030113]

RIN 1018-BA68

Endangered and Threatened Wildlife and Plants; Adding Five Species of Sawfish to the List of Endangered and Threatened Wildlife

AGENCY: Fish and Wildlife Service, Interior.

ACTION: Final rule.

SUMMARY: We, the U.S. Fish and Wildlife Service (Service), in accordance with the Endangered Species Act of 1973, as amended (Act), are amending the List of Endangered and Threatened Wildlife (List) by adding five species of sawfish: Narrow sawfish (Anoxypristis cuspidata), dwarf sawfish (Pristis clavata), largetooth sawfish (collectively Pristis pristis; formerly Pristis pristis, Pristis microdon, and Pristis perotteti), green sawfish (Pristis zijsron), and the non-U.S. distinct population segment (DPS) of smalltooth sawfish (Pristis pectinata). These amendments are based on previously published determinations by the National Marine Fisheries Service (NMFS) of the National Oceanic and Atmospheric Administration, Department of Commerce, which has jurisdiction for these species.

DATES: This rule is effective January 26, 2015. Applicability date: The five sawfish listings are applicable as of January 12, 2015.

FOR FURTHER INFORMATION CONTACT: Douglas Krofta, Chief, Branch of Endangered Species Listing, U.S. Fish and Wildlife Service, MS-ES, 5275 Leesburg Pike, Falls Church, VA 22041-3803; 703-358-2171.

SUPPLEMENTARY INFORMATION:

Background

In accordance with the Act (16 U.S.C. 1531 et seq.) and Reorganization Plan No. 4 of 1970 (35 FR 15627; October 6, 1970), NMFS has jurisdiction over the marine taxa identified in this rule. Under section 4(a)(2) of the Act, NMFS must decide whether a species under its jurisdiction should be classified as an endangered or threatened species. NMFS makes these determinations via its rulemaking process. We, the Service, are then responsible for publishing final rules to amend the List in title 50 of the Code of Federal Regulations (CFR) at 50 CFR 17.11(h).

On June 4, 2013, NMFS published a proposed rule (78 FR 33300) to list the narrow sawfish (Anoxypristis cuspidata), dwarf sawfish (Pristis clavata), largetooth sawfish (collectively Pristis pristis; formerly Pristis pristis, Pristis microdon, and Pristis perotteti), green sawfish (Pristis zijsron), and the non-U.S. distinct population segment (DPS) of smalltooth sawfish (Pristis pectinata) as endangered species. NMFS solicited public comments on the proposed rule through August 5, 2013. On August 7, 2013, NMFS published a notice extending the comment period through September 19, 2013 (78 FR 48134). On December 12, 2014, NMFS published a final rule (79 FR 73977) to list the five species of sawfish as endangered species. The largetooth sawfish (P. perotteti) was already listed under the Act as endangered on July 12, 2011 (76 FR 40822), but this final listing concerns the entire largetooth sawfish species (P. pristis) as it is currently classified, which also includes the species formerly classified as P. perotteti and P. microdon.

The listing of the five sawfish species is effective as of January 12, 2015. In the December 12, 2014, final rule (79 FR 73977), NMFS addressed all public comments received in response to the proposed rule. By publishing this final rule, we are simply taking the necessary administrative step to codify these changes in the List at 50 CFR 17.11(h). We are also revising the current CFR entry for the U.S. DPS of smalltooth sawfish to make the presentation of information in that entry consistent with the new sawfish entries being added to the List via this rule; the changes to that entry are not substantive.

Administrative Procedure Act

Because NMFS provided a public comment period on the proposed rules for these taxa, and because this action of the Service to amend the List in accordance with the determination by NMFS is nondiscretionary, the Service finds good cause that the notice and public comment procedures of 5 U.S.C. 553(b) are unnecessary for this action. We also find good cause under 5 U.S.C. 553(d)(3) to make this rule effective immediately. The NMFS rules extended protection under the Act to these species and listed them in 50 CFR part 224; this rule is an administrative action to add the species to the List at 50 CFR 17.11(h). The public would not be served by delaying the effective date of this rulemaking action.

Required Determinations

National Environmental Policy Act

We have determined that an environmental assessment, as defined under the authority of the National Environmental Policy Act of 1969, need not be prepared in connection with regulations adopted pursuant to section 4(a) of the Act. We outlined our reasons for this determination in the Federal Register on October 25, 1983 (48 FR 49244).

List of Subjects in 50 CFR Part 17

Endangered and threatened species, Exports, Imports, Reporting and recordkeeping requirements, Transportation.

Regulation Promulgation

Accordingly, we amend part 17, subchapter B of chapter I, title 50 of the Code of Federal Regulations, as set forth below:

PART 17—[AMENDED]

1. The authority citation for part 17 continues to read as follows:

Authority: 16 U.S.C. 1361-1407; 1531-1544; 4201-4245, unless otherwise noted.

2. Amend § 17.11(h), in the List of Endangered and Threatened Wildlife, under Fishes by:

a. Revising the entries for “Sawfish, largetooth” and “Sawfish, smalltooth (United States DPS)” to read as set forth below; and

b. Adding entries in alphabetical order for: “Sawfish, dwarf”; “Sawfish, green”; “Sawfish, narrow”; and “Sawfish, smalltooth (Non-U.S. DPS)”, to read as follows:

§ 17.11 Endangered and threatened wildlife.

* * * * *

(h) * * *

Species: Common name | Species: Scientific name | Historic range | Vertebrate population where endangered or threatened | Status | When listed | Critical habitat | Special rules
* * * * * * *
Fishes
* * * * * * *
Sawfish, dwarf | Pristis clavata | Indo-Pacific, Western Pacific, and eastern Indian Oceans | Entire | E | 856 | NA | NA
Sawfish, green | Pristis zijsron | Indo-Pacific Ocean, Persian Gulf, Red Sea | Entire | E | 856 | NA | NA
Sawfish, largetooth | Pristis pristis (formerly Pristis perotteti, Pristis pristis, and Pristis microdon) | Indian, Indo-Pacific, Eastern Pacific, and Atlantic Oceans, Gulf of Mexico | Entire | E | 856 | NA | NA
Sawfish, narrow | Anoxypristis cuspidata | Indian and Western Pacific Oceans, Red Sea | Entire | E | 856 | NA | NA
Sawfish, smalltooth (Non-U.S. DPS) | Pristis pectinata | Atlantic Ocean, Caribbean Sea, Gulf of Mexico | Smalltooth sawfish originating from non-U.S. waters | E | 856 | NA | NA
Sawfish, smalltooth (U.S. DPS) | Pristis pectinata | North Atlantic Ocean (Mediterranean, U.S. Atlantic, and Gulf of Mexico) and the Southwest Atlantic Ocean | Smalltooth sawfish originating from U.S. waters | E | 748 | 226.218 | NA
* * * * * * *

* * * * *

Dated: January 9, 2015.
Stephen Guertin,
Acting Director, U.S. Fish and Wildlife Service.

[FR Doc. 2015-01348 Filed 1-23-15; 8:45 am]

BILLING CODE 4310-55-P